DEPARTMENT OF TRANSPORTATION

Federal Aviation Administration

14 CFR Part 39

[Docket No. 2002-NE-43-AD]

RIN 2120-AA64

Airworthiness Directives; Turbomeca S.A. Arriel 1 Turboshaft Engines

AGENCY: Federal Aviation Administration, DOT.

ACTION: Notice of proposed rulemaking (NPRM).

SUMMARY: The Federal Aviation Administration (FAA) proposes to adopt a new airworthiness directive (AD) that is applicable to Turbomeca S.A. Arriel 1 series turboshaft engines. This proposal would require initial and repetitive visual inspections for ingestive erosion, and cleaning if necessary, of M02 and M03 modules. This proposal is prompted by reports from the manufacturer of ingestive erosion of M02 and M03 modules. The actions specified by the proposed AD are intended to prevent an unbalance of the gas generator rotating assembly which may lead to deterioration of the gas generator rear bearing and uncommanded engine shutdown.

DATES: Comments must be received by April 14, 2003.

ADDRESSES: Submit comments in triplicate to the Federal Aviation Administration (FAA), New England Region, Office of the Regional Counsel, Attention: Rules Docket No. 2002-NE-43-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NE-43-AD.” The postcard will be date stamped and returned to the commenter.

Availability of NPRM's

Any person may obtain a copy of this NPRM by submitting a request to the FAA, New England Region, Office of the Regional Counsel, Attention: Rules Docket No. 2002-NE-43-AD, 12 New England Executive Park, Burlington, MA 01803-5299.

Discussion

The Direction Generale de L'Aviation Civile (DGAC), which is the airworthiness authority for France, recently notified the Federal Aviation Administration (FAA) that an unsafe condition may exist on Turbomeca S.A. Arriel 1 A, 1 A1, 1 A2, 1 B, 1 C, 1 C1, 1 C2, 1 D, 1 D1, 1 E, 1 E2, 1 K, 1 K1, 1 S, and 1 S1 turboshaft engines. The DGAC advises that approximately 225 of the Arriel engine fleet operates in a dusty or erosive atmospheric environment, containing substances such as laterite, sand, volcanic ash, and chemical particles. This atmospheric environment can lead to dust accumulation and unbalance of the gas generator rotating assembly, which may lead to deterioration of the gas generator rear bearing and also to uncommanded engine shutdown.

Bilateral Agreement Information

This engine model is manufactured in France and is type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Proposed Requirements of This AD

Since an unsafe condition has been identified that is likely to exist or develop on other Turbomeca S.A. Arriel 1 turboshaft engines of the same type design that are used on helicopters registered in the United States, the proposed AD would require initial and repetitive visual inspections for ingestive erosion, and cleaning if necessary, of M02 and M03 modules.

Economic Analysis

There are approximately 3,560 engines of the affected design in the worldwide fleet. The FAA estimates that about 225 of the 900 engines installed on aircraft of U.S. registry would be affected by this proposed AD. The FAA also estimates that it would take approximately 0.2 work hour per engine to perform each axial compressor erosion inspection, and take approximately 40 work hours per engine to perform the gas generator rotor assembly cleaning, and that the average labor rate is $60 per work hour. Based on these figures, the total cost of the proposed AD to perform one inspection and one cleaning to U.S. operators is estimated to be $542,700.

Regulatory Analysis

This proposed rule does not have federalism implications, as defined in Executive Order 13132, because it would not have a substantial direct effect on the States, on the relationship between the national government and the States, or on the distribution of power and responsibilities among the various levels of government. Accordingly, the FAA has not consulted with State authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Turbomeca S.A.: Docket No. 2002-NE-43-AD.

Applicability: This airworthiness directive (AD) is applicable to Turbomeca S.A. Arriel 1 A, 1 A1, 1 A2, 1 B, 1 C, 1 C1, 1 C2, 1 D, 1 D1, 1 E, 1 E2, 1 K, 1 K1, 1 S, and 1 S1 turboshaft engines. These engines are installed on, but not limited to, Eurocopter AS 350, AS 350B1, AS 350B2, AS 365C, AS 365C2, AS 365N, AS 365N1, AS 365N2, BK 117C1, BK 117C2, Augusta A109 K2, and Sikorsky S76 C helicopters.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent an unbalance of the gas generator rotating assembly which may lead to deterioration of the gas generator rear bearing and also to uncommanded engine shutdown, do the following:

Initial Inspections and Cleaning

(a) For engines that have been operated in a dusty or erosive atmospheric environment containing substances such as laterite, sand, volcanic ash, and chemical particles, and engines for which the operating environment cannot be determined, do the following:

(1) Perform an initial visual inspection for erosion of the axial compressor, within 50 operating hours after the effective date of this AD. Information on inspecting can be found in Turbomeca S.A. Mandatory Service Bulletin (MSB) No. 292 72 0230, dated October 16, 1998.

Modification TU 175 Not Incorporated

(2) For engines that do not have Modification TU 175 incorporated, if axial compressor erosion is above 1.5 millimeters in area “D” as defined in the engine maintenance manual, and if the M03 module has operated more than 200 hours with this M02 module, clean the M03 module within the next 50 operating hours. Information on cleaning can be found in Turbomeca S.A. MSB No. 292 72 0230, dated October 16, 1998.

Modification TU 175 Incorporated

(3) For engines that have Modification TU 175 incorporated, if axial compressor erosion inspection requires the M02 module to be removed, and if the M03 module has operated more than 400 hours with this M02 module, clean the M03 module within the next 50 operating hours. Information on cleaning can be found in Turbomeca S.A. MSB No. 292 72 0230, dated October 16, 1998.

Reconditioning and Checks

(b) Perform reconditioning and checks of the engines. Information on reconditioning and checks can be found in Turbomeca S.A. MSB No. 292 72 0230, dated October 16, 1998.

Repetitive Inspections

(c) Repeat axial compressor erosion inspections within every 200 operating hours-since-last-inspection (HSLI) for engines that do not have Modification TU 175 incorporated, and within every 400 operating HSLI, for engines that have Modification TU 175 incorporated, as specified in paragraph (a) of this AD.

Alternative Methods of Compliance

(d) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Note 3: A list of authorized repair centers qualified to carry out gas generator rotating assembly maintenance and cleaning may be obtained from Turbomeca S.A. or the ECO.

Special Flight Permits

(e) Special flight permits may be issued in accordance with §§ 21.197 and 21.199 of the Federal Aviation Regulations (14 CFR 21.197 and 21.199) to operate the helicopter to a location where the requirements of this AD can be done.

Note 4: The subject of this AD is addressed in Direction Generale de L'Aviation Civile airworthiness directive 1990-064(A), Revision 1, dated March 21, 2000.

Issued in Burlington, Massachusetts, on February 5, 2003.
Jay J. Pardee,
Manager, Engine and Propeller Directorate, Aircraft Certification Service.

[FR Doc. 03-3473 Filed 2-11-03; 8:45 am]

BILLING CODE 4910-13-P